DEPARTMENT OF COMMERCE

Submission for OMB Review; Comment Request

The Department of Commerce will submit to the Office of Management and Budget (OMB) for clearance the following proposal for collection of information under the provisions of the Paperwork Reduction Act (44 U.S.C. Chapter 35).

Agency: National Oceanic and Atmospheric Administration (NOAA).

Title: Information for Share Transfer in the Wreckfish Fishery.

OMB Control Number: 0648-0262.

Form Number(s): NA.

Type of Request: Regular submission.

Number of Respondents: 4.

Average Hours per Response: 15 minutes.

Burden Hours: 1.

Needs and Uses: The National Oceanic and Atmospheric Administration's (NOAA) National Marine Fisheries Service (NMFS) is requesting the extension of the wreckfish share transfer data collection program. The individual transferable quota system in the wreckfish fishery is based on percentage shares. Persons holding shares may sell or otherwise transfer them to others, but information about the proposed transfer must first be provided to NOAA. The transfer form is printed on the back of the percentage shares certificate. With each transfer of ownership, the certificate will be reissued. The certificate identifies the seller, but the buyer's name, address, corporate (employer's) Federal tax identification number, and telephone number must be provided. The sale price is necessary for economic analysis. The signatures of buyer, seller, and witness will secure the transaction.

The information is needed for management of the quota system and for economic analyses. The Magnuson-Stevens Fishery Conservation and Management Act is the legislative authority to collect data from the various sectors of the economy that harvest marine resources in the exclusive economic zone.

Affected Public: Business or other for-profit organizations.

Frequency: On occasion.

Respondent's Obligation: Mandatory.

OMB Desk Officer: David Rostker, (202) 395-3897.

Copies of the above information collection proposal can be obtained by calling or writing Diana Hynek, Departmental Paperwork Clearance Officer, (202) 482-0266, Department of Commerce, Room 6625, 14th and Constitution Avenue, NW., Washington, DC 20230 (or via the Internet at dHynek@doc.gov).

Written comments and recommendations for the proposed information collection should be sent within 30 days of publication of this notice to David Rostker, OMB Desk Officer, FAX number (202) 395-7285, or David_Rostker@omb.eop.gov.

Dated: December 29, 2009.
Gwellnar Banks,
Management Analyst, Office of the Chief Information Officer.

[FR Doc. E9-31179 Filed 12-31-09; 8:45 am]

BILLING CODE 3510-22-P